DEPARTMENT OF TRANSPORTATION

National Highway Traffic Safety Administration

[U.S. DOT Docket No. NHTSA-2013-0113]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before December 30, 2013.

ADDRESSES: You may submit comments identified by DOT Docket ID Number NHTSA-2013-0113 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-(202) 493-2251.

Instructions: Each submission must include the Agency name and the Docket number for this Notice. Note that all comments received will be posted without change to http://www.regulations.gov including any personal information provided. Please see the Privacy Act heading below.

Privacy Act: Anyone is able to search the electronic form for all comments received into any of our dockets by the name of the individual submitting the comments (or signing the comment, if submitted on behalf of an association, business, labor union, etc.). You may review DOT's complete Privacy Act Statement in the Federal Register published on April 11, 2000 (65 FR 19477-78) or you may visit http://DocketsInfo.dot.gov.

FOR FURTHER INFORMATION CONTACT: Dr. Russell Pierce, Contracting Officer's Technical Representative, Office of Behavioral Safety Research (NTI-132), National Highway Traffic Safety Administration, 1200 New Jersey Avenue SE., W46-472, Washington, DC 20590. Dr. Pierce's phone number is (202) 366-5599 and his email address is russell.pierce@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Medical Review Guidelines and Medical Advisory Board Practices

Type of Request—New Information Collection.

OMB Clearance Number—None.

Form Number—NHTSA 1228.

Requested Expiration Date of Approval—3 years from date of approval.

Summary of the Collection of Information—The National Highway Traffic Safety Administration (NHTSA) proposes to collect information from an individual in the Medical Review Department in each of the 50 State Driver Licensing Agencies and The District of Columbia about their State's driver medical review structure and processes. The information collected will be used to produce a short narrative describing each State's medical review structure and processes, plus several appendices with tables displaying each individual State's responses to the questions, and totals for each response. Data will be collected, according to each respondent's preference, via a Microsoft Word document distributed and collected via email or a print version distributed and collected via US mail, and the responses will consist primarily of checkbox response types and fill-in-the-blank options when non-standard checkboxes are selected. Additionally, survey respondents will be provided with a short narrative that describes their State's medical review processes, and asked to review and edit/update the narrative as necessary to ensure its accuracy.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

As our population ages, age-related impairments in safe driving abilities will become more prevalent. The private automobile remains by far the most often used and most preferred means of meeting community mobility needs among older adults. Along with the increase in the number of older drivers, an increase in the driving exposure of older adults is likely, both in terms of the frequency of their trips and the distances they drive. In addition, due to increased physical frailty, older individuals are also most likely to be seriously injured or killed in an automotive crash. Therefore, driver medical review practices are likely to assume a more prominent role in the years ahead.

Medical review guidelines and practices can help evaluate drivers referred to a State motor vehicle licensing agency for reexamination due to concerns about unsafe driving performance possibly resulting from suspected age or medical condition related impairments in visual, physical, or mental abilities. Society has an interest in ensuring that these medical review guidelines and practices are in place and are effective in reducing motor vehicle crashes, injury, and death. This data collection will provide NHTSA with an accurate description of current medical review practices across the country. This is a necessary first step in identifying which structures and processes work best.

Description of the Likely Respondents (Including Estimated Number, and Proposed Frequency of Response to the Collection of Information)—TransAnalytics (NHTSA's Contractor) plans to enlist the assistance of the American Association of Motor Vehicle Administrators (AAMVA) to identify the most appropriate contact in each State, for distribution of the survey and the narrative summary for review and update.

Estimate of the Total Annual Reporting and Record Keeping Burden Resulting from the Collection of Information—There will be approximately 70 questions on the survey requiring checkbox responses, and an occasional fill-in-the-blank response required when “other” is checked. We estimate the time to complete the survey for the medical review contact in each State to be 2.5 hours. Additionally, we estimate 2.5 hours of time for each medical review contact to review and edit the narrative describing their State's medical review structure and process. This estimate includes the time that may be required to respond to telephone contacts made by TransAnalytics if necessary, to follow-up or clarify survey responses. The total estimated annual burden will be 255 hours (5 hours for each respondent, 50 States + Washington, DC). Survey respondents will incur no costs from the data collection and will incur no record keeping burden and no record keeping cost from the information collection.

Authority: 44 U.S.C. 3506(c)(2)(A).

Issued on October 25, 2013.
Jeffrey Michael,
Associate Administrator, Research and Program Development.

[FR Doc. 2013-25793 Filed 10-29-13; 8:45 am]

BILLING CODE 4910-59-P